DEPARTMENT OF ENERGY

Federal Energy Regulatory Commission

Combined Notice of Filings #2

Take notice that the Commission received the following electric rate filings:

Docket Numbers: ER20-2740-000.

Applicants: Hickory Run Energy, LLC.

Description: Refund Report: Hickory Run Refund Report Re ER20-2740 to be effective N/A.

Filed Date: 2/4/26.

Accession Number: 20260204-5152.

Comment Date: 5 p.m. ET 2/25/26.

Docket Numbers: ER22-2305-002.

Applicants: Louisville Gas and Electric Company.

Description: Compliance filing: Order No. 881 Compliance Filing Establish Actual Effective Date to be effective 12/12/2025.

Filed Date: 2/5/26.

Accession Number: 20260205-5113.

Comment Date: 5 p.m. ET 2/26/26.

Docket Numbers: ER23-2964-001.

Applicants: East Kentucky Power Cooperative, Inc., PJM Interconnection, L.L.C.

Description: Compliance filing: East Kentucky Power Cooperative, Inc. submits tariff filing per 35: PJM TOs Ministerial Clean-Up to CTOA Amendments re Order 881 Line Ratings to be effective 3/4/2026.

Filed Date: 2/5/26.

Accession Number: 20260205-5046.

Comment Date: 5 p.m. ET 2/26/26.

Docket Numbers: ER25-3475-004; ER10-1292-018; ER10-1319-020; ER10-1276-020; ER10-1353-020; ER18-1183-013; ER18-1184-013; ER10-1303-018; ER25-3172-002; ER10-1287-019; ER24-3028-002; ER24-3029-002; ER23-1411-005.

Applicants: Newport Solar LLC, Livingston Generating Station, LLC, Kalamazoo Generating Station, LLC, Grayling Generation Station Limited Partnership, Genesee Solar Energy, LLC, Genesee Power Station Limited Partnership, Delta Solar Power II, LLC, Delta Solar Power I, LLC, Dearborn Industrial Generation, L.L.C., Consumers Energy Company, CMS Generation Michigan Power, LLC, CMS Energy Resource Management Company, Branch Solar, LLC.

Description: Notice of Non-Material Change in Status of Branch Solar, LLC, et al.

Filed Date: 1/30/26.

Accession Number: 20260130-5558.

Comment Date: 5 p.m. ET 2/20/26.

Docket Numbers: ER26-700-001.

Applicants: Midcontinent Independent System Operator, Inc.

Description: Tariff Amendment: 2026-02-05_SA 4608 Entergy Mississippi-Entergy Mississippi Sub Orig GIA (4146) to be effective 12/1/2025.

Filed Date: 2/5/26.

Accession Number: 20260205-5057.

Comment Date: 5 p.m. ET 2/26/26.

Docket Numbers: ER26-1268-000.

Applicants: Alabama Power Company.

Description: Compliance filing: SEEM Agreement Compliance Filing to Implement Settlement Agt in Docket ER26-445 to be effective 4/7/2026.

Filed Date: 2/5/26.

Accession Number: 20260205-5020.

Comment Date: 5 p.m. ET 2/26/26.

Docket Numbers: ER26-1269-000.

Applicants: Southwest Power Pool, Inc.

Description: § 205(d) Rate Filing: 4490R1 Western Farmers Energy Services Meter Agent Agreement to be effective 2/1/2026.

Filed Date: 2/5/26.

Accession Number: 20260205-5021.

Comment Date: 5 p.m. ET 2/26/26.

Docket Numbers: ER26-1270-000.

Applicants: Idaho Power Company.

Description: § 205(d) Rate Filing: Modifications to Attachment C, Figure 1 and Section 4 to be effective 4/13/2026.

Filed Date: 2/5/26.

Accession Number: 20260205-5056.

Comment Date: 5 p.m. ET 2/26/26.

Docket Numbers: ER26-1271-000.

Applicants: PJM Interconnection, L.L.C.

Description: § 205(d) Rate Filing: Notice of Cancellation of NSA, SA No. 7131; Queue No. W1-108 to be effective 2/4/2026.

Filed Date: 2/5/26.

Accession Number: 20260205-5065.

Comment Date: 5 p.m. ET 2/26/26.

Docket Numbers: ER26-1272-000.

Applicants: PJM Interconnection, L.L.C.

Description: § 205(d) Rate Filing: Original GIA No. 7821; AF1-064/AF2-126; & Notice of Cancellation of ISA No. 7069 to be effective 1/7/2026.

Filed Date: 2/5/26.

Accession Number: 20260205-5069.

Comment Date: 5 p.m. ET 2/26/26.

Docket Numbers: ER26-1273-000.

Applicants: Midcontinent Independent System Operator, Inc.

Description: § 205(d) Rate Filing: 2026-02-05_SA 4672 METC-Mustang Mile Solar GIA (S1066) to be effective 2/2/2026.

Filed Date: 2/5/26.

Accession Number: 20260205-5075.

Comment Date: 5 p.m. ET 2/26/26.

Docket Numbers: ER26-1274-000.

Applicants: New York Independent System Operator, Inc., New York State Electric & Gas Corporation.

Description: § 205(d) Rate Filing: New York Independent System Operator, Inc. submits tariff filing per 35.13(a)(2)(iii: NYISO-NYSEG Joint 205: Standard IA Yellow Barn Solar SA2945 (CEII) to be effective 1/23/2026.

Filed Date: 2/5/26.

Accession Number: 20260205-5077.

Comment Date: 5 p.m. ET 2/26/26.

Docket Numbers: ER26-1276-000.

Applicants: Public Service Company of Colorado.

Description: Tariff Amendment: 2026-02-05 PSCo Study Cancellations to be effective 2/6/2026.

Filed Date: 2/5/26.

Accession Number: 20260205-5112.

Comment Date: 5 p.m. ET 2/26/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: February 5, 2026.
Carlos D. Clay,
Deputy Secretary.

[FR Doc. 2026-02605 Filed 2-9-26; 8:45 am]

BILLING CODE 6717-01-P